DEPARTMENT OF TRANSPORTATION

Federal Aviation Administration

[Docket No. FAA-2015-3001]

RIN 2120-AA64

Notice of Relocation; Change of Physical Address for the Federal Aviation Administration Southwest Regional Office

AGENCY: Federal Aviation Administration (FAA), DOT.

ACTION: Notice.

SUMMARY: The Federal Aviation Administration (FAA) is publishing this notice to announce that the physical address of the FAA Southwest Regional Office, which is specified in airworthiness directives (ADs) issued by the Rotorcraft Directorate, is changing due to a relocation.

DATES: This notice is effective July 23, 2015.

FOR FURTHER INFORMATION CONTACT: Jim Grigg, Manager, Safety Management Group, Rotorcraft Directorate, FAA, 10101 Hillwood Pkwy., Fort Worth, Texas 76177; telephone (817) 222-5110; email jim.grigg@faa.gov.

SUPPLEMENTARY INFORMATION:

Discussion

The FAA Southwest Regional Office is relocating from 2601 Meacham Blvd., Fort Worth, Texas 76137, to 10101 Hillwood Parkway, Fort Worth, Texas 76177. The Office of the Regional Counsel and the Rotorcraft Directorate are located in the FAA Southwest Regional Office. Service information related to ADs that cannot be placed in the AD docket is made reasonably available for review in the Office of the Regional Counsel. Rotorcraft Directorate personnel provide further information about ADs and approve AMOCs for ADs. The Office of the Regional Counsel is relocating effective July 20, 2015. The Rotorcraft Directorate is relocating effective July 27, 2015.

Conclusion

Effective July 20, 2015, you may review service information related to ADs issued by the Rotorcraft Directorate at the FAA, Office of the Regional Counsel, 10101 Hillwood Pkwy., Fort Worth, Texas 76177.

Effective July 27, 2015, mail correspondence regarding additional information about ADs issued by the Rotorcraft Directorate to: Safety Management Group, Rotorcraft Directorate, FAA, 10101 Hillwood Pkwy., Fort Worth, TX 76177.

Issued in Fort Worth, Texas, on July 17, 2015.
Bruce E. Cain,
Acting Directorate Manager, Rotorcraft Directorate, Aircraft Certification Service.

[FR Doc. 2015-18047 Filed 7-22-15; 8:45 am]

BILLING CODE 4910-13-P